DEPARTMENT OF AGRICULTURE

Rural Utilities Service

Information Collection Activity; Comment Request

AGENCY: Rural Utilities Service, USDA.

ACTION: Notice and request for comments.

SUMMARY: In accordance with the Paperwork Reduction Act of 1995 (44 U.S.C. Chapter 35, as amended), the Rural Utilities Service (RUS) invites comments on this information collection for which RUS intends to request approval from the Office of Management and Budget (OMB).

DATES: Comments on this notice must be received by July 11, 2006.

FOR FURTHER INFORMATION CONTACT: Richard C. Annan, Director, Program Developmental and Regulatory Analysis, Rural Utilities Service, 1400 Independence Ave., Sw., STOP 1522, Room 5818 South Building, Washington, DC 20250-1522. Telephone: (202) 720-0784. FAX: (202) 720-8435.

SUPPLEMENTARY INFORMATION: The Office of Management and Budget's (OMB) regulation (5 CFR Part 1320) implementing provisions of the Paperwork Reduction Act of 1995 (Pub. L. 104-13) requires that interested members of the public and affected agencies have an opportunity to comment on information collection and recordkeeping activities (see 5 CFR 1320.8(d)). This notice identifies an information collection that RUS is submitting to OMB for extension.

Comments are invited on: (a) Whether the proposed collection of information is necessary for the proper performance of the functions of the Agency, including whether the information will have practical utility; (b) the accuracy of the Agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to: Richard C. Annan, Director, Program Development and Regulatory Analysis, Rural Utilities Service, U.S. Department of Agriculture, STOP 1522, 1400 Independence Ave., SW., Washington, DC 20250-1522. FAX: (202) 720-8435.

Title: State Telecommunications Modernization Plan.

OMB Control Number: 0572-0104.

Type of Request: Extension of a currently approved information collection.

Abstract:This information collection requirement stems from passage of the Rural Electrification Loan Restructuring Act (RELRA, Pub. L. 103-129) on November 1, 1993, which amended the Rural Electrification Act of 1936, 7 U.S.C. 901 et seq. (the RE Act). RELRA requires that a State Telecommunications Modernization Plan (Modernization Plan), covering at a minimum the Rural Utilities Service (RUS) borrowers in the state, be established in a state or RUS cannot make hardship or concurrent cost-of-money and Rural Telephone Bank (RTB) loans for construction in that state. It is the policy of RUS that every State has a Modernization Plan which provides for the improvement of the State's telecommunications network. A proposed Modernization plan must be submitted to RUS for approval. RUS will approve a proposed Modernization Plan if it conforms to the provisions of 7 CFR part 1751, subpart B.

Estimate of Burden: Public reporting burden for this collection of information is estimated to average 350 hours per response.

Respondents: Business or other for-profit; not-for-profit organizations.

Estimated Number of Respondents: 1

Estimated Number of Responses per Respondent: 1.

Estimated Total Annual Burden on Respondents: 350.

Copies of this information collection can be obtained from MaryPat Daskal, Program Development and Regulatory Analysis, at (202) 720-7853, FAX: (202 720-4120. All responses to this notice will be summarized and included in the request for OMB approval. All comments will also become a matter of public record.

Dated: May 8, 2006.
Curtis M. Anderson,
Acting Administrator, Rural Utilities Service.

[FR Doc. 06-4443 Filed 5-11-06; 8:45am]

BILLING CODE 3410-15-M